DEPARTMENT OF COMMERCE

Foreign-Trade Zones Board

[Docket 63-2008]

Foreign-Trade Zone 120 Cowlitz County, Washington, Application for Subzone Shin-Etsu Handotai America, Inc. (Semiconductor-Grade Silicon Wafers), Vancouver, Washington

An application has been submitted to the Foreign-Trade Zones Board (the Board) by the Cowlitz County Economic Development Council, grantee of FTZ 120, requesting special-purpose subzone status for the semiconductor-grade silicon wafer manufacturing facility of Shin-Etsu Handotai America, Inc. (SEH-A), located in Vancouver, Washington. The application was submitted pursuant to the provisions of the Foreign-Trade Zones Act, as amended (19 U.S.C. 81a-81u), and the regulations of the Board (15 CFR part 400). It was formally filed on October 30, 2008.

The SEH-A facility (882 employees, 135 acres, 1.6 million square feet) is located at 4111 NE 112th Avenue, Vancouver, Washington. The facility is used for the manufacturing of semiconductor-grade silicon ingots and wafers. Components and materials sourced from abroad (representing 5-15% of the value of the finished product) include: processed carbides of silicon, propylene glycol, acyclic polyamine, organic surface active agents, glues and other adhesives, organic reaction initiators, alumina silicate compounds, eslon solvent cements, anti-scruff paste, rust inhibitors, press coolants, polyamides, silicones, and plastic boxes and bags (duty rate ranges from duty-free to 6.5%).

FTZ procedures could exempt SEH-A from customs duty payments on the foreign components used in export production. The company anticipates that between 60 and 70 percent of the plant's shipments will be exported. On its domestic sales, SEH-A would be able to choose the duty rates during customs entry procedures that apply to finished semiconductor-grade silicon ingots and wafers (duty-free) for the foreign inputs noted above. SEH-A also plans to realize logistical benefits through the use of weekly customs entry procedures. Customs duties also could possibly be deferred or reduced on foreign status production equipment. The request indicates that the savings from FTZ procedures would help improve the plant's international competitiveness.

In accordance with the Board's regulations, Elizabeth Whiteman of the FTZ Staff is designated examiner to investigate the application and report to the Board.

Public comment is invited from interested parties. Submissions (original and 3 copies) shall be addressed to the Board's Executive Secretary at the address below. The closing period for their receipt is January 12, 2009. Rebuttal comments in response to material submitted during the foregoing period may be submitted during the subsequent 15-day period to January 26, 2009.

A copy of the application and accompanying exhibits will be available for public inspection at each of the following locations:U.S. Department of Commerce Export Assistance Center, 2601 Fourth Ave., Suite 320, Seattle, Washington 98121.Office of the Executive Secretary, Foreign-Trade Zones Board, U.S. Department of Commerce, Room 2111, 1401 Constitution Ave. NW, Washington, DC 20230.

For further information, contact Elizabeth Whiteman at Elizabeth_Whiteman@ita.doc.gov or (202) 482-0473.

Dated: November 3, 2008.
Andrew McGilvray,
Executive Secretary.

[FR Doc. E8-26838 Filed 11-10-08; 8:45 am]

Billing Code: 3510-DS-S